DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project:

Identifying Best Practice Models of Mental Health and Substance Abuse Services for Homeless Adolescents, Runaway, and Throwaway Youth—New—This is a project of SAMHSA's Center for Mental Health Services. The first stage of this study will involve the compilation of a directory of agencies providing services to homeless, runaway and throwaway youth across the nation. The directory will be developed using published information and information on the internet about agencies providing services to these youth. This information will be summarized on one page, which will be emailed/mailed to the agency with a request that they complete or correct information as appropriate. The agency will be asked to email/mail back their completed/revised form; if necessary, agencies may be telephoned to complete or correct information.

From this universe of service providers, a probability sample of approximately 52 providers will be selected to receive a site visit. During the site visit, information will be collected from the facility director or a designee about the staff (e.g., number and training), characteristics of the target service population, and services provided. In addition, at each site a sample of approximately 20 youth (age 12-21 years of age who are homeless, runaway, or thrownaway) will be selected for interview. A site designee will be asked to be present during the administration of the youth informed consents.

Data collection will span the period from August to December of 2003. It is anticipated that study results will be used at the federal, state, and local levels to determine best practices for service provision and to inform funding decisions.

Total response burden for this project is summarized in the following table.

Form name | Number of respondents | Responses/respondent | Hours/response | Total burden hours
Directory Questionnaire | 500 | 1 | 0.25 | 125
Provider Survey | 52 | 1 | 1.00 | 52
Youth Survey | 1,040 | 1 | 0.75 | 780
Total | 1,540 |  |  | 957

Send comments to Nancy Pearce, SAMHSA Reports Clearance Officer, Room 16-105, Parklawn Building, 5600 Fishers Lane, Rockville, MD 20857. Written comments should be received within 60 days of this notice.

Dated: March 20, 2003.
Richard Kopanda,
Executive Officer, Substance Abuse and Mental Health Services Administration.

[FR Doc. 03-7176 Filed 3-25-03; 8:45 am]

BILLING CODE 4162-20-P